DEPARTMENT OF AGRICULTURE

Forest Service

Collaborative Forest Landscape Restoration Advisory Committee

AGENCY: Forest Service, Agriculture (USDA).

ACTION: Notice of meeting.

SUMMARY: The Collaborative Forest Landscape Restoration Advisory Committee will hold a public meeting according to the details shown below. The committee is authorized under the Omnibus Public Land Management Act of 2009 and operates in compliance with the Federal Advisory Committee Act (FACA). The purpose of the committee is to provide advice and recommendations to the Secretary of Agriculture (Secretary) on the selection of collaborative forest landscape restoration proposals. General information can be found at the following website: https://www.fs.usda.gov/restoration/CFLRP/advisory-panel.shtml.

DATES: The meeting will be held on April 4, 5 and 6, 2023, from 8:00am to 5:00 p.m. each day, Mountain Daylight Time.

All commmittee meetings are subject to cancellation. For status of the meetings prior to attendance, please contact the person listed under FOR FURTHER INFORMATION CONTACT.

Written and Oral Comments:

Individuals wishing to make an oral statement at any meeting should make a request in writing by March 30, 2023, to be scheduled on the agendas. Anyone who would like to bring related matters to the attention of the committee may file written statements with the committee staff before or by April 21, 2023. Written comments and requests for time for oral comments must be sent to Bryce Esch, 1824 S Thompson Street, Flagstaff, AZ 86001 or by email to Bryce.Esch@usda.gov.

ADDRESSES: The meetings are open to the public and will be held at the Cesar Chavez Memorial Building, Room 221, 1244 Speer Boulevard, Denver, Colorado 80204. The public may also join virtually via telephone and/or video conference. Virtual meeting participation details can be found on the website listed under SUMMARY or by contacting the person listed under FOR FURTHER INFORMATION CONTACT.

FOR FURTHER INFORMATION CONTACT: Chuck Oliver, Designated Federal Officer (DFO), by phone at 406-370-0174 or email at Charles.Oliver@usda.gov or Bryce Esch, Committee Coordinator, at 928-856-1146 or email at Bryce.Esch@usda.gov.

Individuals who use telecommunication devices for the deaf and hard of hearing (TDD) may call the Federal Relay Service (FRS) at 1-800-877-8339, 24 hours a day, every day of the year, including holidays.

SUPPLEMENTARY INFORMATION: The purpose of the committee is to provide advice and recommendations to the Secretary on the selection of collaborative forest landscape restoration proposals as provided in Section 8629 of the Agriculture Improvement Act of 2018. The meetings are open to the public. The agendas will include time for people to make oral statements of three minutes or less.

Written comments may be submitted as described under the DATES section. All comments, including names and addresses when provided, are placed in the record and are available for public inspection and copying. The public may inspect comments received upon request.

The meeting agendas will include:

1. Evaluate 2023 Collaborative Forest Landscape Restoration Program (CFLRP) proposals and provide recommendations to the Secretary of Agriculture on proposal selection for funding; and

2. Development of CFLRP future process recommendations.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken into account the needs of the diverse groups served by USDA, membership shall include to the extent possible, individuals with demonstrated ability to represent minorities, women, and persons with disabilities. USDA is an equal opportunity provider, employer, and lender.

Dated: March 15, 2023.
Cikena Reid,
USDA Committee Management Officer.

[FR Doc. 2023-05700 Filed 3-20-23; 8:45 am]

BILLING CODE 3411-15-P